DEPARTMENT OF COMMERCE

Foreign-Trade Zones Board

[Docket 30-2012]

Foreign-Trade Zone 200—Mercer County, NJ; Application for Reorganization/Expansion Under Alternative Site Framework

An application has been submitted to the Foreign-Trade Zones (FTZ) Board (the Board) by the County of Mercer, grantee of FTZ 200, requesting authority to reorganize and expand the zone under the alternative site framework (ASF) adopted by the Board (74 FR 1170-1173, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on April 12, 2012.

FTZ 200 was approved by the Board on March 11, 1994 (Board Order 683, 59 FR 13698, 03/23/94), and expanded on August 18, 2004 (Board Order 1346, 69 FR 52857, 08/30/04). The current zone project includes the following sites: Site 1 (70 acres)—Mercer County Airport, 300 Scotch Road, Ewing; and, Site 4 (882 acres)—Northwest Business Park, 100 New Canton Way, Robbinsville.

The grantee's proposed service area under the ASF would be Mercer County, New Jersey, as described in the application. If approved, the grantee would be able to serve sites throughout the service area based on companies' needs for FTZ designation. The proposed service area is adjacent to the Philadelphia Customs and Border Protection port of entry.

The applicant is requesting authority to reorganize its existing zone project to include Site 1 as a “magnet” site, Site 4 as a “usage-driven” site and to reduce the size of Site 4 by 813 acres. The ASF allows for the possible exemption of one magnet site from the “sunset” time limits that generally apply to sites under the ASF, and the applicant proposes that Site 1 be so exempted. The applicant is also requesting approval of a new “usage-driven” site: Proposed Site 8 (64 acres)—Kenco Logistic Services LLC, 100 West Manor Way, Robbinsville. Because the ASF only pertains to establishing or reorganizing a general-purpose zone, the application would have no impact on FTZ 200's authorized subzone.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is June 18, 2012. Rebuttal comments in response to material submitted during the foregoing period may be submitted during the subsequent 15-day period to July 2, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: April 12, 2012.
Andrew McGilvray,
Executive Secretary.

[FR Doc. 2012-9354 Filed 4-17-12; 8:45 am]

BILLING CODE P